DEPARTMENT OF STATE

[Public Notice: 7760]

U.S. Department of State Advisory Committee on Private International Law (ACPIL): Notice of Public Meeting of Its Study Group on the Hague Convention on Choice of Court Agreements

The Office of the Assistant Legal Adviser for Private International Law, Department of State, hereby gives notice of a public meeting of the ACPIL Study Group on the Hague Convention on Choice of Court Agreements. The meeting will take place on Monday, March 5, from 1 p.m. to 5 p.m., at the main State Department building (Harry S Truman Building). This is not a meeting of the full Advisory Committee.

The Study Group will meet to discuss the draft federal legislation that has been developed to implement the Convention. It is proposed that the Convention would be implemented through a “cooperative federalism” approach whereby states could elect to enact a uniform state act, which would apply in that state in lieu of the federal statute.

Key issues to be discussed include: the scope of federal court jurisdiction in actions brought to recognize or enforce the judgment of a foreign chosen court; provisions on the statute of limitations for bringing recognition/enforcement actions; and whether to prescribe the basis for quasi in rem jurisdiction in recognition/enforcement actions. Participants may comment also on other provisions of the draft federal legislation.

Prior to the Study Group meeting, we will send out the latest federal and state drafts to all those who indicate that they intend to attend the meeting or participate by telephone or who otherwise express an interest in commenting on the draft federal text. Those who cannot attend but wish to comment are welcome to do so by email to Keith Loken at lokenk@state.gov.

Time and Place: The meeting will take place in Room 1406, Harry S Truman Building, 2201 C Street NW., Washington, DC 20520. Participants should plan to arrive by 12:30 p.m. for visitor screening. If you are unable to attend the public meeting and would like to participate from a remote location, teleconferencing will be available.

Public Participation: This study group meeting is open to the public, subject to the capacity of the meeting room. Access to the building is strictly controlled. For pre-clearance purposes, those planning to attend should phone Tricia Smeltzer (202) 776-8423 or Niesha Toms (202) 776-8420 and provide your full name, address, date of birth, citizenship, driver's license or passport number, email address. This will greatly facilitate entry into the building. Participants will be met inside the diplomatic entrance at C Street and, once badges are obtained, escorted to the meeting room. A member of the public needing reasonable accommodation should advise Ms. Smeltzer or Ms. Toms not later than February 27. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

Dated: January 20, 2012.
Keith Loken,
Assistant Legal Adviser, Private International Law, Department of State.

[FR Doc. 2012-2350 Filed 2-1-12; 8:45 am]

BILLING CODE 4710-08-P